SMALL BUSINESS ADMINISTRATION

Program Announcement for the Paul D. Coverdell Drug-Free Workplace Program

AGENCY: Small Business Administration.

ACTION: Program announcement.

SUMMARY: The U.S. Small Business Administration (SBA) plans to issue program announcement #SBDC-01-0002 to invite applications from eligible intermediaries in accordance with the Drug-Free Workplace Act of 1998 (Act). The authorizing legislation is the Small Business Act, section 21(c)(3)(T) and section 27, 15 U.S.C. 648(c)(3)(T) and 654, (Title IX of Pub. L. 105-277).

The Act permits the SBA to make grants to eligible intermediaries for the purpose of providing financial and technical assistance to small businesses seeking to establish drug-free workplace programs. In establishing these DFWP programs, as contemplated by the Act, eligible intermediaries should provide outreach to the small business community and provide additional voluntary education for parents. Outreach must include educating small businesses on the benefits of a drug-free workplace and encouraging small business employers and employees to participate in drug-free workplace programs. Education for parents must include teaching them how to keep their children drug-free.

All applicants must meet the definition of “Eligible Intermediary” as defined in the Act. Any applicants not meeting the definition will be considered non-responsive and their proposals will not be technically evaluated. The Act defines “Eligible Intermediary” as an organization that:

1. Has at least two years of experience in carrying out drug-free workplace programs;

2. Has a drug-free workplace policy in effect;

3. Is located in a State, the District of Columbia, or a territory of the United States; and

4. Has as its purpose the development of comprehensive drug-free workplace programs, or supplying drug-free workplace services, or providing other forms of assistance and services to small businesses.

SBA is looking for applications that include innovative and creative approaches to address the Drug-Free Workplace Act of 1998. The grants should be viewed as an opportunity to develop a community-wide collaborative effort in which a plan for a system of action aimed at reducing drug abuse in small businesses can serve as a national demonstration model.

SBA will select successful applicants through a competitive process. Evaluation criteria will be included in the program announcement. The successful applicants will receive a 12-month grant award to provide financial and technical assistance to small businesses seeking to implement drug-free workplace programs.

DATES: SBA will mail the program announcement to interested parties in mid-March 2001. The closing date will be 30 days later. SBA Headquarters must receive the applications/proposals by the date and time that will be specified in the program announcement. Interested parties may also view the Program Announcement, minus attachments, online at: http:// www.sba.gov/news/drugfree.

FOR FURTHER INFORMATION CONTACT: Joan Bready, Office of Small Business Development Centers, SBA, at (202) 205-7384 or Mina Bookhard, Office of Procurement and Grants Management, SBA, at (202) 205-7080.

Dated: February 21, 2001.
Johnnie Albertson,
Associate Administrator, Small Business Development Centers.

[FR Doc. 01-4921 Filed 2-28-01; 8:45 am]

BILLING CODE 8025-01-U